DEPARTMENT OF HEALTH AND HUMAN SERVICES

National Institutes of Health; Office of the Director

Notice of Meeting

The Office of the Director, National Institutes of Health (NIH), announces a meeting of the NIH Blue Ribbon Panel on Conflict of Interest Policies, a working group of the Advisory Committee to the Director, NIH. The meeting is scheduled for April 5-6, 2004, beginning at 8:30 a.m. each day.

The meeting will be held at the NIH, 9000 Rockville Pike, Bethesda, Maryland, Building 31C, Conference Room 6. Attendance will be limited to space available. In the interest of security, NIH has instituted stringent procedures for entrance into the building by non-government employees. Persons without a government I.D. will need to show a photo I.D. and sign-in at the security desk upon entering the building.

On April 5, the Panel will be in public session from 10 a.m.-2 p.m.; the Panel will meet in closed, Executive Session, from 8:30-10 a.m. and from 2:15 p.m.-4 p.m. On April 6, the Panel will meet in closed, Executive Session, from 8:30 a.m.-2 p.m. Closed sessions will be used for the Panel to work on their recommendations and the report. The agenda will be posted on the NIH Web site (http://www.nih.gov) prior to the meeting. Any person wishing to make a presentation should notify Charlene French, Office of Science Policy, National Institutes of Health, Building 1, Room 103, Bethesda, Maryland 20892, telephone 301-496-2122 by April 2, 2004, or by e-mail: blueribbonpanel@mail.nih.gov.

Oral comments will be limited to 5 minutes. Due to time constraints, only one representative from each organization will be allotted time for oral testimony. The number of speakers and the time allotment may also be limited by the number of presentations. The opportunity to speak will be based on a first come first served basis. All requests to present oral comments should include the name, address, telephone number, and business or professional affiliation of the interested party, and should indicate the areas of interest or issue to be addressed. Please provide, if possible, an electronic copy of your comments.

Any person attending the meeting who has not registered to speak in advance of the meeting will be allowed to make a brief oral statement during the time set aside for public comment, if time permits and at the discretion of the co-chairs.

Individuals who plan to attend the meeting and need special assistance, such as sign language interpretation or other reasonable accommodations, should notify Charlene French at the address listed earlier in this notice in advance of the meeting.

Dated: March 30, 2004.
LaVerne Stringfield,
Director, Office of Federal Advisory Committee Policy.

[FR Doc. 04-7696 Filed 4-1-04; 11:04 am]

BILLING CODE 4140-01-M